DEPARTMENT OF HEALTH AND HUMAN SERVICES

Centers for Disease Control and Prevention

[Program Announcement 01040]

Notice of Availability of Funds; Safe Motherhood Programs

A. Purpose

The Centers for Disease Control and Prevention (CDC) announces the availability of fiscal year (FY)2001 funds for grant programs entitled “Safe Motherhood Programs.” This program addresses the “Healthy People 2010” focus area of Maternal, Infant, and Child Health. The purpose of the program is to improve maternal, infant, and child health.

B. Eligible Applicants

Assistance will be provided only to the organizations listed below. No other applications are solicited. The Conference Report H.R. 4577, Consolidated Appropriations Act, 2001, specified these funds for the organizations listed below.

1. Victory Memorial Hospital, Brooklyn, New York, to expand its prenatal program for uninsured pregnant women. ($34,690)

2. Northern New Jersey Maternal Child Health Consortium. ($93,750)

3. University Medical Center of Southern Nevada, for maternal and neonatal intensive care. ($468,770)

4. Sudden Infant Death Syndrome Resources, Inc., Missouri Bootheel Healthy Start Project. ($843,790)

5. Prince Georges County Health Department, for infant mortality prevention. ($937,545)

C. Availability of Funds

Approximately $2,500,000 is available in FY 2001 to fund five awards. It is expected that the award will begin on or about July 15, 2001, and will be made for a 12-month budget period within a one year project period. Funding estimates may change.

D. Where To Obtain Additional Information

Business management technical assistance may be obtained from: Van A. King, Grants Management Specialist, Grants Management Branch, Procurement and Grants Office, Centers for Disease Control and Prevention (CDC), 2920 Brandywine Road, Room 3000, Atlanta, GA 30341-4146, Telephone: (770) 488-2751, E-Mail Address: vbk5@cdc.gov.

For overall program technical assistance, contact: John R. Lehnherr, Division of Reproductive Health, National Center for Chronic Disease Prevention and Health Promotion (NCCDPHP), 4770 Buford Highway, NE, MS K-20, Atlanta, Georgia 30341, Telephone: (770) 488-5193, E-Mail Address: jrl5@cdc.gov.

Technical assistance for Cross Roads Foundation will be provided by: Bao Ping Zhu, Division of Reproductive Health, National Center for Chronic Disease Prevention and Health Promotion (NCCDPHP), 3423 Martin Luther King, Jr. Boulevard, Lansing, Michigan 48909, Telephone: (517) 334-8026, E-Mail Address: bxz3@cdc.gov.

Technical assistance for Victory Memorial Hospital, Brooklyn, New York, will be provided by: Cindy Berg, Division of Reproductive Health, National Center for Chronic Disease Prevention and Health Promotion (NCCDPHP), 4770 Buford Highway, NE, MS K-23, Atlanta, Georgia 30341, Telephone: (770) 488-5187, E-Mail Address: gkb@cdc.gov.

Technical assistance for Northern New Jersey Maternal Child Health Consortium will be provided by: Holly Shulman, Division of Reproductive Health, National Center for Chronic Disease Prevention and Health Promotion (NCCDPHP), 4770 Buford Highway, NE, MS K-22, Atlanta, Georgia 30341, Telephone: (610) 690-7331, E-Mail Address: hbs1@cdc.gov.

University Medical Center of Southern Nevada; Sudden Infant Death Syndrome Resources, Inc., Missouri Bootheel Healthy Start; and Prince Georges County Health Department will be provided by: Solomon Iyasu, Division of Reproductive Health, National Center for Chronic Disease Prevention and Health Promotion (NCCDPHP), 4770 Buford Highway, NE, MS K-23, Atlanta, Georgia 30341, Telephone: (770) 488-5156, E-Mail Address: sxi1@cdc.gov.

Dated: April 17, 2001.
John L. Williams,
Director, Procurement and Grant Office, Centers for Disease Control and Prevention.

[FR Doc. 01-9926 Filed 4-23-01; 8:45 am]

BILLING CODE 4163-18-P